DEPARTMENT OF JUSTICE

Office of Community Oriented Policing: Agency Information Collection Activities: Proposed Collection; Comment Request

ACTION: Notice of Information Collection Under Review; New Collection COPS Problem-Solving Management Survey.

The Department of Justice, Office of Community Oriented Policing Services (COPS) has submitted the following information collection request utilizing emergency review procedures, to the Office of Management and Budget (OMB) for review and clearance in accordance with the Paperwork Reduction Act of 1995. OMB approval has been requested by February 11, 2000. The proposed information collection is published to obtain comments from the public and affected agencies. If granted, the emergency approval is only valid for 180 days. Comments should be directed to OMB, Office of Information Regulation Affairs, Attention: Department of Justice Desk Officer (202) 395-3122, Washington, DC 20530.

During the first 60 days of this same period a regular review of this information/collection is also being undertaken. In addition to comments and/or questions pertaining to this pending request for emergency approval, written comments and suggestions from the public and affected agencies concerning the proposed collection of information are encouraged and will be accepted for 60 days from the date listed at the top of this page in the Federal Register.

Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Written comments and/or suggestions regarding the items contained in this notice, especially regarding the emergency approval request, estimated public burden and associated response time, should be directed to the COPS Office, PPSE Division, 1100 Vermont Ave., NW, Washington, DC 20530-0001; Attention: Karen Beckman. Additionally, comments may be submitted to COPS via facsimile to 202-633-1386, Attention: Karen Beckman. Comments may also be submitted to the Department of Justice (DOJ), Justice Management Division, Information Management and Security Staff, Attention: Department Deputy Clearance Officer, National Place, Suite 1220, 1331 Pennsylvania Avenue, NW, Washington, DC 20530.

Overview of this information collection:

(1) Type of Information Collection: New collection.

(2) Title of the Form/Collection: COPS Problem-Solving Management Survey.

(3) Agency form number, if any, and the applicable component of the Department of Justice sponsoring the collection: Form: COPS PPSE/01. Office of Community Oriented Policing Services, U.S. Department of Justice.

(4) Affected public who will be asked or required to respond, as well as a brief abstract: Captains, Chiefs, Detectives/Sergeants, and Crime Analysts from 75 large police agencies that have received COPS 1999 School Based Partnership Grants will be asked to respond (approximately 300). The Problem-Solving Management Survey will collect basic information about the capacity of police agencies to prioritize problems, their knowledge of agency resources, and their understanding of problem-solving information as it relates to problem-oriented policing.

The COPS office will use the information collected to identify the information necessary for police executives to effectively utilize resources as it relates to problem-solving and to examine existing problem-oriented policing tracking systems for the purpose of identifying best practices in problem-solving management. Data from the surveys will be used to produce a final Problem-Solving Knowledge Management Model. A brochure and video of the Problem-Solving Knowledge Model will assist agencies in problem prioritization, and the allocation of resources in support of problem-oriented policing.

(5) An estimate of the total number of respondents and the amount of time estimated for an average respondent to respond: Surveys will be administered by telephone to approximately 300 position-specific law enforcement officials within 75 large police agencies who have been awarded COPS 1999 School Based Partnership Grants. The four specific positions that will be questioned in each agency are Captains, Chiefs, Detectives or Sergeants, and Crime Analysts. Administrative preparation and survey completion will take approximately 0.75 hours per respondent (there is no record burden for this collection).

(6) An estimate of the total public burden (in hours) associated with the collection: Approximately 225 hours.

If additional information is required contact: Ms. Brenda E. Dyer, Deputy Clearance Officer, United States Department of Justice, Information Management and Security Staff, Justice Management Division, National Place, Suite 1220, 1331 Pennsylvania Avenue, NW, Washington, DC 20530.

Dated: February 3, 2000.
Brenda E. Dyer,
Department Deputy Clearance Officer, United States Department of Justice.

[FR Doc. 00-2898 Filed 2-8-00; 8:45 am]

BILLING CODE 4410-AT-M